DEPARTMENT OF LABOR

Office of the Secretary

Submission for OMB Review: Comment Request

October 31, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. A copy of this ICR, with applicable supporting documentation, may be obtained at http://www.reginfo.gov/public/do/PRAMain, or contact Ira Mills on 202-693-4122 (this is not a toll-free number) or e-mail: Mills.Ira@dol.gov.

In July 2004, ETA solicited comments from the general public on the establishment of a single, streamlined reporting and recordkeeping system, formally called the ETA Management Information and Longitudinal Evaluation (EMILE) reporting system. The notice of 60-day public comment on the proposed EMILE reporting system was published in the Federal Register on July 16, 2004 (Vol. 69, No. 136, pages 42777-42779). The proposed EMILE reporting system was designed to streamline 12 ETA program reporting systems into one comprehensive reporting structure that would allow for consistent, comparable analysis across ETA funded employment and training programs, using the definitions for a set of common performance measures initially specified in Training and Employment Guidance Letter (TEGL) 15-03, Common Measures Policy, and subsequently revised by TEGL 17-05, Common Measures Policy for the Employment and Training Administration's (ETA) Performance Accountability System and Related Performance Issues.

ETA received comments from 161 unique entities, including state workforce agencies and boards, local workforce investment areas, non-profit organizations and national associations, Native American and other tribal organizations, public interest and advocacy groups, and other private citizens and stakeholders. Due to the large volume of comments submitted by each entity, ETA worked during calendar year 2005 to organize and analyze the public comments, make appropriate revisions to agency policy guidance on the common measures, and assess the feasibility of implementing the proposed EMILE reporting requirements in several States.

ETA has reconciled the public comments and made appropriate revisions to the original EMILE proposal, which has been re-named to the Workforce Investment Streamlined Performance Reporting (WISPR) system. This revised proposal will replace the current quarterly reporting requirements of the following seven ETA activities: Wagner-Peyser Act, Veterans Employment and Training Service, the Workforce Investment Act (WIA) Adult, WIA Dislocated Worker, WIA Youth, and Trade Adjustment Assistance Act programs, and National Emergency Grants.

The Department is seeking or has already received separate OMB clearances on revisions to the following program reporting systems to incorporate standardized data collection necessary to implement a set of common performance measures: National Farm Worker Jobs Program, Indian and Native American Program, Senior Community Service and Employment Program, and entities receiving H-1B Technical Skills Training or Responsible Reintegration of Youthful Offenders grants. These programs will continue to report separately, and the data elements collected for these programs have been aligned, to the extent practicable, with those in the proposed WISPR System. The decision to not include these programs in the WISPR System was based on concerns about burden (time and resources) expressed by many commenters.

While the proposed WISPR System represents a comprehensive data collection and reporting approach, it is important to note that every effort has been made to establish common data definitions and formats with minimum burden to grantees. At its foundation, the proposed WISPR System organizes customer information that is maintained by states in order to run their day-to-day operations, and includes a minimum level of information collection that is necessary to comply with Equal Opportunity requirements, hold states and grantees appropriately accountable for the Federal funds they receive, and allow the Department to fulfill its oversight and management responsibilities. The WISPR System proposal does build on revisions in state data collection approved by OMB in early 2006 to implement the common performance measures. In some cases, additional data collection requirements are included for Federal oversight or to comply with existing statutory requirements, and these are also included in the proposed WISPR System.

The WISPR System features a set of aggregate quarterly reports for capturing services to employer and job seeker customers, including a special aggregate report on services to the nation's eligible veterans and transitioning service members. A standardized set of participant data that includes information on demographics, types of services received, and performance outcomes based on a set of common measures defined consistently across programs is a key component of this proposed reporting system. The WISPR System will be used to respond more quickly and effectively to the management information needs of Congress, the Administration and the general public.

The WISPR System will ensure there is consistency across all ETA formula-funded state programs so all programs are evaluated using the same criteria. When job seeker and employer data are collected, maintained and reported consistently and accurately at a basic level (e.g., grantee field office or One-Stop Career Center), data can be aggregated from each program and reported to higher levels with greater confidence that the data are comparable from customer to customer, from program to program, and from year to year. The WISPR System also incorporates provisions to ensure the integrity of reported data, and resolve data collection and reliability issues raised by OIG and GAO regarding the Department's ability to accurately evaluate program performance.

Proposed Changes

To address concerns expressed in the public comments about reporting burden (time and financial resources), the following changes are proposed in the WISPR System:

• The EMILE requirement to submit quarterly individual records on employer customers has been eliminated and replaced with an aggregate quarterly report (ETA Form 9131). Information contained on the employer report will provide a more complete picture of the total impact of the One-Stop system by including the characteristics of employers served and the type and frequency of services being delivered;

• The EMILE requirement to submit quarterly participant and exiter records has been eliminated and replaced with the requirement for states to submit quarterly records on exiters only;

• In the absence of quarterly participant records, the EMILE quarterly workforce investment performance report has been modified to include data collection on participant counts by key demographics and the types of adult and youth services received (ETA Form 9132). This uniform report format will facilitate consistent performance calculations and focus on the core functions of the workforce system: employment for adults and skills for youth; and

• Data collection requirements for job seeker customers has been substantially reduced compared to the original EMILE individual record to address public concerns regarding the amount of data to be collected and reported and align with recent changes approved by OMB.

Additionally, a special report is proposed to capture service information for participants who are eligible veterans and transitioning service members, to comply with reporting requirements for the Jobs for Veterans grants (ETA Form 9133).

To address public concerns regarding the submission of integrated reports, states will be given a range of options for submitting separate quarterly reports and records depending on how the state administers the workforce programs covered by the reporting system. This additional flexibility for submitting performance information to the Department will be available during the first two years of WISPR System implementation. Also, the collection of quarterly customer satisfaction reports for the WIA and Wagner-Peyser Act programs are not included in the WISPR System to reflect recent OMB notices of action to discontinue this information collection.

Comments should be sent to Office of Information and Regulatory Affairs, Attn: OMB Desk Officer for U.S. Department of Labor/Employment and Training Administration (ETA), Office of Management and Budget, Room 10235, Washington, DC 20503, 202-395-7316 (this is not a toll free number), within 45 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration.

Type of Review: New.

Title: Workforce Investment Streamlined Performance Reporting (WISPR) System.

OMB Number: 1205—0NEW.

Frequency: Quarterly.

Affected Public: State and Local Governments.

Type of Response: Recordkeeping; Reporting.

Number of Respondents: 54.

Annual Responses: 2,376.

Average Response time: 376 hours per State.

Total Annual Burden Hours: 813,241.

Total Annualized Capital/Startup Costs: 0.

Total Annual Costs (operating/maintaining systems or purchasing services): 0.

Description: Respondents are State governments. This reporting and recordkeeping system features a set of aggregate reports for capturing services to employers and job seeker customers, including a special aggregate report on services to the nation's eligible veterans and transitioning service members. Selected standardized participant data that includes information on demographics, types of services received, and performance outcomes based on a set of common measures will also be collected and reported for the purposes of general program oversight, evaluation, and performance assessment of the WIA, Wagner-Peyser, Veterans Employment and Training Service, and Trade Adjustment Assistance programs, and National Emergency Grants.

Ira L. Mills,
Departmental Clearance Officer.

[FR Doc. E6-18605 Filed 11-3-06; 8:45 am]

BILLING CODE 4510-30-P